DEPARTMENT OF THE INTERIOR

National Park Service

Wrangell-St. Elias National Park Subsistence Resource Commission; Meeting

AGENCY: National Park Service, Interior.

ACTION: Announcement of Subsistence Resource Commission meeting.

SUMMARY: The Superintendent of Wrangell-St. Elias National Park and the Chairperson of the Subsistence Resource Commission announce a forthcoming meeting of the Wrangell-St. Elias National Park Subsistence Resource Commission. The following agenda items will be discussed:

(1) Call to order.

(2) Roll call—Confirm Quorum.

(3) Introduction of Commission members, staff, and guests.

(4) Review Agenda.

(5) Review and approval of minutes from April 20-21, 1999 meeting.

(6) Superintendent's welcome and review of the Commission purpose.

(7) Commission membership status.

(8) Election of Chair and Vice Chair.

(9) Public and other agency comments.

(10) New Business:

a. Update on Federal Fish Management.

b. Federal Subsistence Program update.

(1) Review 2000-2001 Federal Subsistence Board Proposals for Units 5, 6, 11, 12, and 13.

(2) Review actions taken by Federal Subsistence Board during spring 1999 meeting on Federal Subsistence Program 1999-2000 proposed regulation changes.

(3) Review FSB final version of Individual C&T policy.

(4) Review request for delegating SRC hunting plan recommendation response to the Regional Director in Alaska.

(5) Review FSB response to George Midvag letter—re: Slana CT.

(11) Report on October 1999 Chairs Workshop.

(12) Superintendent's report.

a. Wrangell-St. Elias National Park and Preserve Superintendent and Yakutat District Ranger Positions.

(13) Wrangell-St. Elias National Park and Preserve staff reports.

a. Mentasta Herd Update.

(14) Old Business:

a. Status of EA/rulemaking to add Northway, Tetlin, Tanacross and Dot Lake as resident zone communities community.

b. Cordova Public Meeting.

c. Status of Malaspina Forelands ATV study project.

d. Possible restrictions of the harvest of ewe sheep.

e. Subsistence Hunting Program Recommendation 97-01: establish minimum residency requirement for resident zone communities.

f. SRC Chairs Customary Trade Concerns.

g. Status report on Hunting Plan Recommendation 96-1 and 96-2: migratory bird.

h. Tolsona resident zone request.

i. Status report on subsistence plan, hunt maps, and subsistence brochure for Wrangell-St. Elias National Park and Preserve.

(15) Public and other agency comments.

(16) Subsistence Resource Commission work session to develop proposals/finalize recommendations.

(17) Set time and place of next Subsistence Resource Commission meeting.

(18) Adjourn meeting.

DATES: The meeting will begin at 9 a.m. on Tuesday, February 22, 2000, and conclude at approximately 5 p.m. The meeting will reconvene at 9 a.m. on Wednesday, February 23, 2000, and adjourn at approximately 5 p.m. The meeting will adjourn earlier if the agenda items are completed.

LOCATION: The meeting will be held at Tazlina Community Hall, Tazlina, Alaska.

FOR FURTHER INFORMATION CONTACT: Gary Candelaria, Superintendent, and Heather Yates, Subsistence Manager, Wrangell-St. Elias National Park and Preserve, P.O. Box 439, Copper Center, Alaska 99573. Phone (907) 822-5234.

SUPPLEMENTARY INFORMATION: The Subsistence Resource Commissions are authorized under title VIII, section 808, of the Alaska National Interest Lands Conservation Act, Pub. L. 96-487, and operates in accordance with the provisions of the Federal Advisory Committees Act. Note that under the Freedom of Information Act (FOIA), transcripts of any person giving public comments may be made available under a FOIA request.

Paul Anderson,
Deputy Regional Director.

[FR Doc. 00-2304 Filed 2-2-00; 8:45 am]

BILLING CODE 4310-70-P